ENVIRONMENTAL PROTECTION AGENCY

40 CFR Part 52

[EPA-R09-OAR-2011-0547; FRL-9435-2]

Revisions to the California State Implementation Plan, San Joaquin Valley Air Pollution Control District (SJVUAPCD)

AGENCY: Environmental Protection Agency (EPA).

ACTION: Proposed rule.

SUMMARY: EPA is proposing to approve revisions to the San Joaquin Valley Air Pollution Control District (SJVUAPCD) portion of the California State Implementation Plan (SIP). These revisions concern volatile organic compound (VOC) and oxides of nitrogen (NOX), and particulate matter (PM) emissions from open burning. We are approving a local rule that regulates these emission sources under the Clean Air Act as amended in 1990 (CAA or the Act). We are taking comments on this proposal and plan to follow with a final action.

DATES: Any comments must arrive by August 10, 2011.

ADDRESSES: Submit comments, identified by docket number EPA-R09-OAR-2011-0547, by one of the following methods:

1. Federal eRulemaking Portal: www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or e-mail. www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Joanne Wells, EPA Region IX, (415) 947-4118, wells.joanne@epa.gov.

SUPPLEMENTARY INFORMATION: Throughout this document, “we,” “us” and “our” refer to EPA.

Table of Contents

I. The State's Submittal

A. What rule did the State submit?

B. Are there other versions of this rule?

C. What is the purpose of the submitted rule and rule revisions?

II. EPA's Evaluation and Action

A. How is EPA evaluating the rule?

B. Does the rule meet the evaluation criteria?

C. EPA Recommendations To Further Improve the Rule

III. Proposed Action

IV. Statutory and Executive Order Reviews

I. The State's Submittal

A. What rule did the State submit?

Table 1 lists the rule and portion of District Staff Report addressed by this proposal with the dates that they were adopted by the local air agency and submitted by the California Air Resources Board (CARB).

Table 1—Submitted Rules
Local agency | Rule No. | Rule title | Adopted | Submitted
SJVUAPCD | 4103 | Open Burning | 04/15/10 | 04/05/11
SJVUAPCD |  | Table 9-1, Final Staff Report and Recommendations on Agricultural Burning | 05/20/10 | 04/05/11

On May 6, 2011, EPA determined that the submittal for SJVUAPCD Rule 4103 met the completeness criteria in 40 CFR Part 51 Appendix V, which must be met before formal EPA review.

B. Are there other versions of this rule?

We approved an earlier version of Rule 4103 into the SIP on November 10, 2009 (74 FR 57907). The SJVUAPCD adopted revisions to the SIP-approved version on April 15, 2010 and CARB submitted them to us on April 5, 2011.

C. What is the purpose of the submitted rule and rule revisions?

VOCs and NOX help produce ground-level ozone and smog, which harm human health and the environment. PM emissions also harm human health and the environment by causing, among other things, premature mortality, aggravation of respiratory and cardiovascular disease, decreased lung function, visibility impairment, and damage to vegetation and ecosystems. Section 110(a) of the CAA requires States to submit regulations that control VOC, NOX, and PM emissions. SJVUAPCD Rule 4103 limits emissions of air pollutants, including VOC, NOX and PM, that result from the open burning of agricultural waste and other materials.

Rule 4103 was revised largely to implement portions of California Health and Safety Code (CH&SC) sections 41855.5 and 41855.6. CH&SC section 41855.5 requires SJVUAPCD to prohibit specific crop categories from open burning according to a schedule, the final phase of which began on June 1, 2010. CH&SC section 41855.6 authorizes SJVUAPCD to postpone the burn prohibition for specific crop categories if all of the conditions listed in section 41855.6 are met.

Specific revisions to the previous version of the rule include:

• New or revised definitions are provided in Section 3.0 for the following terms: Air Pollution Control Officer, Board, Environmental Protection Agency, Field Crops, Orchard Removals, Other Materials, Other Weeds and Maintenance, Prunings, Surface Harvested Prunings, Vineyard Removal Materials, Vineyard Materials and Weed Abatement.

• Section 5.5.1 was amended to include all agricultural crops and materials listed in CH&SC Section 41855.5, thereby prohibiting the open burning of all materials not subject to a postponement under Section 5.5.2.

• Section 5.5.2 was revised to include criteria that SJVUAPCD must satisfy to postpone a burn prohibition under CH&SC Section 41855.6.

• New Section 6.3 requires the SJVUAPCD Air Pollution Control Officer (APCO) to prepare and present to the Board for review and approval a “Staff Report and Recommendations on Agricultural Burning” for any Board determination under section 5.5.2. The APCO must also review and update this Report at least every five years.

• On May 20, 2010, the SJVUAPCD Board approved and incorporated by reference a “Staff Report and Recommendations on Agricultural Burning” prepared pursuant to section 6.3 of the rule. The Staff Report recommended complete or partial postponement of the burn prohibition for a number of crop categories. These recommendations are summarized in Table 9-1 of the Staff Report.

EPA's technical support document (TSD) has more information about these rule revisions.

II. EPA's Evaluation and Action

A. How is EPA evaluating the rule?

Generally, SIP rules must be enforceable (see section 110(a) of the Act) and must not relax existing requirements (see sections 110(l) and 193). Section 172(c)(1) of the Act also requires implementation of all reasonably available control measures (RACM) as expeditiously as practicable in nonattainment areas. Because the San Joaquin Valley (SJV) area is designated nonattainment for the fine particulate matter (PM2.5) National Ambient Air Quality Standards (NAAQS) and designated and classified as extreme nonattainment for the ozone NAAQS (see 40 CFR 81.305), the RACM requirement in CAA section 172(c)(1) applies to this area.

Guidance and policy documents that we use to evaluate enforceability and RACM requirements consistently include the following:

1. “Issues Relating to VOC Regulation Cutpoints, Deficiencies, and Deviations,” EPA, May 25, 1988 (the Bluebook).

2. “Guidance Document for Correcting Common VOC & Other Rule Deficiencies,” EPA Region 9, August 21, 2001 (the Little Bluebook).

3. “State Implementation Plans; General Preamble for the Implementation of Title I of the Clean Air Act Amendments of 1990,” 57 FR 13498 (April 16, 1992); 57 FR 18070 (April 28, 1992).

4. Preamble, “Final Rule to Implement the 8-Hour Ozone National Ambient Air Quality Standard—Phase 2,” 70 FR 71612 (November 29, 2005).

5. Preamble, “Clean Air Fine Particle Implementation Rule for the 1997 PM2.5 NAAQS,” 72 FR 20586 (April 25, 2007).

B. Does the rule meet the evaluation criteria?

We believe this rule is consistent with the applicable CAA requirements and guidance regarding enforceability, RACM, and SIP revisions. The TSD has more information on our evaluation.

C. EPA Recommendations To Further Improve the Rule

The TSD describes additional rule revisions that we recommend for the next time the local agency modifies the rule.

III. Proposed Action.

Because EPA believes the submitted rule fulfills all relevant requirements, we are proposing to fully approve it under section 110(k)(3) of the Act. We will accept comments from the public on this proposal for the next 30 days. Unless we receive convincing new information during the comment period, we intend to publish a final approval action that will incorporate this rule into the federally enforceable SIP.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Intergovernmental relations, Nitrogen dioxide, Ozone, Particulate matter, Reporting and recordkeeping requirements, Volatile organic compounds.

Authority: 42 U.S.C. 7401 et seq.

Dated: June 29, 2011.
Jared Blumenfeld,
Regional Administrator, Region IX.

[FR Doc. 2011-17454 Filed 7-8-11; 8:45 am]

BILLING CODE 6560-50-P